ENVIRONMENTAL PROTECTION AGENCY

[FRL-7828-6]

Notice of Proposed Agreement for Recovery of Past Response Costs Under the Comprehensive, Environmental Response, Compensation and Liability Act of 1980 (CERCLA), as Amended, 42 U.S.C. 9622(h)(1), Helena Chemical Company Superfund Site, Hayti, MO, Docket No. CERCLA-07-2004-0312

AGENCY: Environmental Protection Agency.

ACTION: Notice of proposed agreement for recovery of past response costs, Helena Chemical Company Superfund Site, Hayti, Missouri.

SUMMARY: Notice is hereby given that a proposed agreement regarding the Helena Chemical Company Superfund Site located in Hayti, Missouri, was signed by the United States Environmental Protection Agency (EPA) on September 3, 2004.

DATES: EPA will receive, for a period of thirty (30) days from the date of this publication, written comments relating to the proposed agreement.

ADDRESSES: Comments should be addressed to James D. Stevens, Senior Assistant Regional Counsel, United States Environmental Protection Agency, Region VII, 901 N. 5th Street, Kansas City, Kansas 66101 and should refer to: In the Matter of Helena Chemical Company Superfund Site, Hayti, Missouri, Docket No. CERCLA-07-2004-0312.

The proposed agreement may be examined or obtained in person or by mail from James D. Stevens, United States Environmental Protection Agency, Region VII, 901 N. 5th Street, Kansas City, Kansas 66101, (913) 551-7322.

SUPPLEMENTARY INFORMATION: This proposed Agreement concerns the Helena Chemical Company Superfund Site, located in Hayti, Missouri, and is made and entered into by EPA and BP Products North America, Inc. and Helena Chemical Company (Settling Parties). This Site consists of an approximately 2.6 acre lot, and is located about one-eighth mile east of the City of Hayti in Pemiscot County, Missouri.

In response to the release of hazardous substances including toxaphene, arsenic and dieldrin at or from the Site, EPA undertook response actions at the Site pursuant to Section 104 of CERCLA, 42 U.S.C. 9604. In performing these response actions, EPA incurred response costs at or in connection with the Site. In addition, EPA provided oversite of response actions undertaken by the Settling Parties.

Pursuant to Section 107(a) of CERCLA, 42 U.S.C. 9607(a), the Settling Parties are responsible parties and are jointly and severally liable for response costs incurred at or in connection with the Site. The Regional Administrator EPA, Region VII, or his designee, has determined that the total past and projected response costs of the United States at or in connection with the Site will not exceed $500,000, excluding interest.

This Agreement requires the Settling Parties to pay to the EPA Hazardous Substance Superfund the principal sum of $151,072.65 in reimbursement of Past Response Costs, and will resolve the Settling Parties' alleged civil liability for these costs. The proposed Agreement also includes a covenant not to sue the Settling Parties pursuant to Section 107(a) of CERCLA, 42 U.S.C. 9607(a).

Dated: September 16, 2004.
James B. Gulliford,
Regional Administrator, United States Environmental Protection Agency, Region VII.

[FR Doc. 04-23264 Filed 10-18-04; 8:45 am]

BILLING CODE 6560-50-P